DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

• Brodi Fontenot, Assistant Secretary for Management

• Barbara Pabotoy, Associate Chief Human Capital Officer for Executives and Human Capital Services

• Daniel L. Glaser, Assistant Secretary for Terrorist Financing

• Mark Mazur, Assistant Secretary for Tax Policy

• David A. Lebryk, Fiscal Assistant Secretary

• Rosa G. Rios, Treasurer of the United States

• Anita K. Blair, Deputy Assistant Secretary for Human Resources and Chief Human Capital Officer

• John J. Manfreda, Administrator, Alcohol and Tobacco Tax and Trade Bureau

• Mary G. Ryan, Deputy Administrator, Alcohol and Tobacco Tax and Trade Bureau

• Jennifer Shasky-Calvery, Director, Financial Crimes Enforcement Network

• Jamal El-Hindi, Deputy Director, Financial Crimes Enforcement Network

• Sheryl Morrow, Commissioner, Bureau of Fiscal Service

• Wanda J. Rogers, Deputy Commissioner, Financial Services and Operations, Bureau of Fiscal Service

• Kimberly McCoy, Deputy Commissioner, Fiscal Accounting and Shared Services, Bureau of Fiscal Services

• Leonard Olijar, Director, Bureau of Engraving and Printing

• Matthew Rhett Jeppson, Principal Deputy Director of the Mint

• Richard A. Peterson, Deputy Director, for Manufacturing and Quality, U.S. Mint

• Jeffrey Tribiano, Deputy Commissioner, Operations Support, Internal Revenue Service

DATES: Membership is effective on the date of this notice.

FOR FURTHER INFORMATION CONTACT: Julia J. Markham, Human Resources Specialist (Executive Resources), 1500 Pennsylvania Avenue NW., ATTN: 1722 Eye Street, 9th Floor, Washington, DC 20220, Telephone: (202) 927-4370.

Barbara B. Pabotoy,
Associate Chief Human Capital Officer, Human Capital Services.

[FR Doc. 2015-27485 Filed 10-28-15; 8:45 am]

BILLING CODE 4810-25-P